NATIONAL SCIENCE FOUNDATION

Notice of Permits Issued Under the Antarctic Conservation Act of 1978

AGENCY: National Science Foundation.

ACTION: Notice of permits issued.

SUMMARY: The National Science Foundation (NSF) is required to publish notice of permits issued under the Antarctic Conservation Act of 1978. This is the required notice.

FOR FURTHER INFORMATION CONTACT: Polly Penhale, ACA Permit Officer, Office of Polar Programs, National Science Foundation, 2415 Eisenhower Avenue, Alexandria, VA 22314; 703-292-8030; email: ACApermits@nsf.gov.

SUPPLEMENTARY INFORMATION: On July 23, 2021, the National Science Foundation published a notice in the Federal Register of permit applications received. The permits were issued on August 2, 2021, to:

Permit No. 2022-002

1. George Watters

Permit No. 2022-003

2. George Watters

Erika N. Davis,
Program Specialist, Office of Polar Programs.

[FR Doc. 2021-19469 Filed 9-7-21; 8:45 am]

BILLING CODE 7555-01-P